DEPARTMENT OF AGRICULTURE

Cooperative State Research, Education, and Extension Service

Notice of Intent To Revise a Currently Approved Information Collection

AGENCY: Cooperative State Research Education, and Extension Service, USDA.

ACTION: Notice and request for comments.

SUMMARY: In accordance with the Paperwork Reduction act of 1995 and Office of Management and Budget (OMB) regulations (5 CFR part 1320) which implement the Paperwork Reduction Act of 1995 (44 U.S.C. Chapter 35), this notice announces the Cooperative State Research, Education, and Extension Service's (CSREES) intention to revise and request an extension for a currently approved information collection (OMB No. 0524-0038) for Form CSREES-2103 “Certification of Offset and Entitlement for 1890 Land-Grant Institutions.”

DATES: Submit comments on or before February 6, 2006.

ADDRESSES: Written comments concerning this notice and requests for copies of the information collection may be submitted by any of the following methods to Joanna Moore, Policy Specialist, Office of Extramural Programs; Policy, Oversight, and Funds Management Branch; Mail: CSREES/USDA; Mail Stop 2299; 1400 Independence Avenue, SW.; Washington, DC 20250-2299; Hand Delivery/Courier: 800 9th Street, SW., Waterfront Centre, Room 2249, Washington, DC 20024; Fax: (202) 401-7752; or E-mail: jmoore@csrees.usda.gov.

FOR FURTHER INFORMATION CONTACT: Ellen Danus, Chief, Policy, Oversight, and Funds Management Branch; Office of Extramural Programs; CSREES/USDA; Mail Stop 2299; 1400 Independence Avenue, SW.; Washington, DC 20250-2299; Phone: (202) 401-4325; E-mail: edanus@csrees.usda.gov.

SUPPLEMENTARY INFORMATION:

Background and Purpose

CSREES proposes to revise this information collection to include all forms used by grantees to certify the availability of matching funds for the formula funds provided to CSREES cooperating institutions, most of which are the 1862 and 1890 land-grant institutions. The formula funds are provided to the eligible CSREES cooperating institutions under sections 1433, 1444, and 1445 of the National Agricultural research, Extension, and Teaching Policy Act of 1977 (NARETPA), Hatch Act, Smith-Lever Act, and McIntire-Stennis Cooperative Forestry Research Act. Consequently, CSREES proposes revising the title of the Information Collection from “Certification of Offset and Entitlement for 1890 Land-Grant Institutions” to “Certification of Offset and Entitlement” as these forms would now apply to all CSREES cooperating institutions required to certify that matching funds are available. Previously this information collection only applied to the 1890 land-grant institutions for the purposes of certifying the matching requirements under NARETPA sections 1444 and 1445.

CSREES plans to eventually develop a form (i.e., to replace the current form) that would be part of the set of SF-424 Mandatory, Application for Federal Assistance, to be used for the annual application of CSREES formula funds. CSREES is in the process of developing a pilot for the submission of required forms via Grants.gov for one of the CSREES formula grant programs (i.e., formula funds provided under the McIntire-Stennis Cooperative Forestry Research Act).

Title: Certification of Offset and Entitlement.

OMB Number: 0524-0038.

Expiration Date of Current Approval: May 31, 2006.

Type of Request: Intent to revise and extend a currently approved information collection for three years.

Abstract: CSREES has primary responsibility for providing linkages between the Federal and State components of a broad-based, national agricultural research, extension, and education system. Focused on national issues, its purpose is to represent the Secretary of Agriculture and carry out the intent of Congress by administering formula and grant funds appropriated for agricultural research, extension, and education. This information collection is needed for eligible cooperating institutions to certify that matching funds are available prior to the receipt of formula funds provided under NARETPA sections 1433, 1444, and 1445; Hatch Act; Smith-Lever Act; and McIntire-Stennis Cooperative Forestry Research Act.

Need for the Information: Form CSREES-2103, “Certification of Offset and Entitlement” will be submitted up to three times per year for research and extension activities to provide information on the projected matching funds, the actual matching funds, and any revisions to the actual matching funds.

Respondents: Respondents will be the 57 1862 land-grant institutions: 2 state agricultural experiment stations not associated with an 1862 land-grant institution; 18 1890 land-grant institutions, including Tuskegee University and West Virginia State University; 9 schools of veterinary medicine; and 10 certified forestry schools, which will provide information to USDA on the amount and source of non-Federal funds made available by the States to the eligible institutions to meet the matching requirements for each CSREES formula program.

Estimate of the Burden: The estimated burden on the respondents for Form CSREES-2103, “Certification of Offset and Entitlement,” is 3.6 hours per response. This burden estimate is based on a small survey of eligible institutions that have experience completing the current form.

Estimated Number of Respondents: 96.

Estimated Number of Responses: 838.

Estimated Total Annual Burden on Respondents: 3,016.8 hours.

Frequency of Responses: Up to three times a year.

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including the use of appropriate automated, electronic, mechanical, or other technological collection techniques or other forms of information technology.

Done at Washington, DC, this 1st day of December 2005.
Joseph J. Jen,
Under Secretary, Research, Education, and Economics.

[FR Doc. 05-23769 Filed 12-7-05; 8:45 am]

BILLING CODE 3410-22-M